FEDERAL ELECTION COMMISSION

[Notice 2022-01]

Filing Dates for the California Special Elections in the 22nd Congressional District

AGENCY: Federal Election Commission.

ACTION: Notice of filing dates for special election.

SUMMARY: California has scheduled a Special General Election on April 5, 2022, to fill the U.S. House of Representatives seat in the 22nd Congressional District vacated by Representative Devin Nunes. Under California law, a majority winner in a special election is declared elected. Should no candidate achieve a majority vote, a Special Runoff Election will be held on June 7, 2022, between the top two vote-getters. Political committees participating in the California special elections are required to file pre- and post-election reports. Filing deadlines for these reports are affected by whether one or two elections are held.

FOR FURTHER INFORMATION CONTACT: Ms. Elizabeth S. Kurland, Information Division, 1050 First Street NE, Washington, DC 20463; Telephone: (202) 694-1100; Toll Free (800) 424-9530.

SUPPLEMENTARY INFORMATION:

Principal Campaign Committees

All principal campaign committees of candidates who participate in the California Special General and Special Runoff Elections shall file a 12-day Pre-General Report on March 24, 2022; a 12-day Pre-Runoff Report on May 26, 2022; and a 30-day Post-Runoff Report on July 7, 2022. (See charts below for the closing date for each report.)

If both elections are held, all principal campaign committees of candidates who participate only in the California Special General Election shall file a 12-day Pre-General Report on March 24, 2022. (See charts below for the closing date for each report.)

If only one election is held, all principal campaign committees of candidates in the Special General Election shall file a 12-day Pre-General Report on March 24, 2022; and a 30-day Post-General Report on May 5, 2022. (See charts below for the closing date for each report.)

Note that these reports are in addition to the campaign committee's regular quarterly filings. (See charts below for the closing date for each report).

Unauthorized Committees (PACs and Party Committees)

Political committees not filing monthly are subject to special election reporting if they make previously undisclosed contributions or expenditures in connection with the California Special General and/or Special Runoff Elections by the close of books for the applicable report(s). (See charts below for the closing date for each report.)

Committees filing monthly that make contributions or expenditures in connection with the California Special General or Special Runoff Elections will continue to file according to the monthly reporting schedule.

Additional disclosure information for the California special elections may be found on the FEC website at https://www.fec.gov/help-candidates-and-committees/dates-and-deadlines/.

Disclosure of Lobbyist Bundling Activity

Principal campaign committees, party committees and leadership PACs that are otherwise required to file reports in connection with the special elections must simultaneously file FEC Form 3L if they receive two or more bundled contributions from lobbyists/registrants or lobbyist/registrant PACs that aggregate in excess of the lobbyist bundling threshold during the special election reporting periods. (See charts below for closing date of each period.) 11 CFR 104.22(a)(5)(v), (b), 110.17(e)(2), (f).

The lobbyist bundling disclosure threshold for calendar year 2021 was $19,300. This threshold amount may change in 2022 based upon the annual cost of living adjustment (COLA). As soon as the adjusted threshold amount is available, the Commission will publish it in the Federal Register and post it on its website. 11 CFR 104.22(g) and 110.17(e)(2).

Calendar of Reporting Dates for California Special Elections
Report | Close of books ¹ | Reg./cert. & overnight mailing deadline | Filing deadline
If Only the Special General (04/05/2022) Is Held, Committees Involved Must File
Pre-General | 03/16/2022 | 03/21/2022 | 03/24/2022
April Quarterly | 03/31/2022 | 04/15/2022 | 04/15/2022
Post-General | 04/25/2022 | 05/05/2022 | 05/05/2022
July Quarterly | 06/30/2022 | 07/15/2022 | 07/15/2022
If Two Elections Are Held, Committees Involved in Only the Special General (04/05/2022) Must File
Pre-General | 03/16/2022 | 03/21/2022 | 03/24/2022
April Quarterly | 03/31/2022 | 04/15/2022 | 04/15/2022
Committees Involved in Both the Special General (04/05/2022) and Special Runoff (06/07/2022) Must File
Pre-General | 03/16/2022 | 03/21/2022 | 03/24/2022
April Quarterly | 03/31/2022 | 04/15/2022 | 04/15/2022
Pre-Runoff | 05/18/2022 | 05/23/2022 | 05/26/2022
Post-Runoff | 06/27/2022 | 07/07/2022 | 07/07/2022
July Quarterly | —- WAIVED —-
October Quarterly | 09/30/2022 | 10/15/2022 | ² 10/15/2022
Committees Involved In Only the Special Runoff (06/07/2022) Must File
Pre-Runoff | 05/18/2022 | 05/23/2022 | 05/26/2022
Post-Runoff | 06/27/2022 | 07/07/2022 | 07/07/2022
July Quarterly | — WAIVED —
October Quarterly | 09/30/2022 | 10/15/2022 | ² 10/15/2022
¹ The reporting period always begins the day after the closing date of the last report filed. If the committee is new and has not previously filed a report, the first report must cover all activity that occurred before the committee registered as a political committee up through the close of books for the first report due.
² Notice that this filing deadline falls on a weekend or federal holiday. Filing deadlines are not extended when they fall on nonworking days. Accordingly, reports filed by methods other than registered, certified or overnight mail, or electronically, must be received before the Commission's close of business on the last business day before the deadline.

Dated: January 12, 2022.
On behalf of the Commission.
Allen J. Dickerson,
Chairman, Federal Election Commission.

[FR Doc. 2022-00945 Filed 1-18-22; 8:45 am]

BILLING CODE 6715-01-P